NATIONAL SCIENCE FOUNDATION

Notice of the Networking and Information Technology Research and Development Program 30th Anniversary Commemoration

AGENCY: Networking and Information Technology Research and Development (NITRD) Program National Coordination Office (NCO), National Science Foundation.

ACTION: Notice of meeting; correction.

SUMMARY: The notice published in the Federal Register on November 5, 2021 contained an incorrect amount of funding for 1991. This notice corrects that amount. The NITRD Subcommittee will hold a virtual public meeting to mark the 30th anniversary of the signing of the High-Performance Computing (HPC) Act of 1991 and the launching of the High-Performance Computing and Communications Program, now known as the NITRD Program. One of the key parts of this legislation was to establish an effective mechanism to coordinate HPC, networking, and information technology (IT) research and development (R&D) undertaken by the agencies of the Federal Government. The legislation also expanded Federal funding support for HPC and IT R&D to ensure continued technological leadership in these areas by the United States. The Act aimed to provide U.S. researchers and educators, as well as government and the public, with the advanced computing and information resources they needed for achievement of personal, business, and public goals. The NITRD mission has expanded over the last three decades as the capabilities of advanced computing, networking, and IT technologies increased dramatically. Join us as we recognize and celebrate the origins and expansion of America's IT innovation highway.

DATES: December 2, 2021.

ADDRESSES: The meeting will be held virtually through Zoom, 12 Noon (EST).

Instructions: Registration is required. You will be asked to provide your name, email address, and affiliation. The meeting link will be available on https://www.nitrd.gov/nitrd-30th-anniversary-commemoration/.

FOR FURTHER INFORMATION CONTACT: Diana Weber at nco@nitrd.gov or call 202-459-9684. Individuals who use a telecommunications device for the deaf (TDD) may call the Federal Information Relay Service (FIRS) at 1-800-877-8339 between 8 a.m. and 8 p.m., Eastern time, Monday through Friday.

SUPPLEMENTARY INFORMATION: The NITRD Program is the Nation's primary source of federally funded IT R&D, critical to promoting and protecting American leadership in science and technology (S&T) innovation. The NITRD Program focuses its work on addressing strategic IT R&D imperatives that lead to cutting-edge computing, networking, and information technologies that support U.S. national security, economic competitiveness, and individual health and well-being. One of the key parts of the 1991 legislation was to establish a mechanism to lead the coordination and planning of multiagency and multisector HPC R&D to maximize the effectiveness of the Federal Government's R&D investments and the transition of discoveries to societal benefit. This vital mission has expanded over the years to include coordination of Federal agencies' R&D broadly across critical computing- and IT-related topics in advanced wireless technologies, artificial intelligence, big data, cybersecurity, health IT, networked physical systems, privacy protection, robotics, and software productivity and sustainability. Through NITRD, Federal agencies exchange information; collaborate on research activities such as testbeds, workshops, strategic planning, and cooperative solicitations; and focus their R&D resources on common goals of making new discoveries and/or developing new technology solutions to address our Nation's most critical priorities. As an example, NITRD-linked HPC and IT R&D underpinned U.S. leadership in fighting COVID-19, not only to speed discovery of therapeutics and vaccines but also to support Americans in conducting their education, healthcare, personal relationships, and businesses remotely wherever possible. The increased national commitment to IT R&D has been reflected in the growth in combined investment by NITRD's Federal member agencies from less than $500 million in 1991 to nearly $6.5 billion for FY2021. For more information about the NITRD Program, please visit our website: https://www.nitrd.gov/about/.

Submitted by the National Science Foundation in support of the Networking and Information Technology Research and Development (NITRD) National Coordination Office (NCO) on November 19, 2021.

Suzanne H. Plimpton,
Reports Clearance Officer, National Science Foundation.

[FR Doc. 2021-25894 Filed 11-26-21; 8:45 am]

BILLING CODE 7555-01-P